ENVIRONMENTAL PROTECTION AGENCY

40 CFR Part 52

[PA-4121a; FRL-7027-9]

Approval and Promulgation of Air Quality Implementation Plans; Pennsylvania; NOX RACT Determination for Latrobe Steel Company in the Pittsburgh-Beaver Valley Area

AGENCY: Environmental Protection Agency (EPA).

ACTION: Direct final rule.

SUMMARY: EPA is taking direct final action to approve a revision to the Commonwealth of Pennsylvania's State Implementation Plan (SIP). The revision was submitted by the Pennsylvania Department of Environmental Protection (PADEP) to establish and require reasonably available control technology (RACT) for Latrobe Steel Company, a major source of nitrogen oxides ( NOX) located in the Pittsburgh-Beaver Valley ozone nonattainment area (the Pittsburgh area). EPA is approving this revision to establish RACT requirements in the SIP in accordance with the Clean Air Act (CAA).

DATES: This rule is effective on September 24, 2001 without further notice, unless EPA receives adverse written comment by September 10, 2001. If EPA receives such comments, it will publish a timely withdrawal of the direct final rule in the Federal Register and inform the public that the rule will not take effect.

ADDRESSES: Written comments should be mailed to David L. Arnold, Chief, Air Quality Planning & Information Services Branch, Air Protection Division, Mail code 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW., Washington, DC 20460; and the Pennsylvania Department of Environmental Protection, Bureau of Air Quality Control, P.O. Box 8468, 400 Market Street, Harrisburg, Pennsylvania 17105.

FOR FURTHER INFORMATION CONTACT: Michael Ioff at (215) 814-2166, the EPA Region III address above or by e-mail at ioff.mike@epa.gov. Please note that while questions may be posed via telephone and e-mail, formal comments must be submitted, in writing, as indicated in the ADDRESSES section of this document.

SUPPLEMENTARY INFORMATION:

I. Background

Pursuant to sections 182(b)(2) and 182(f) of the Clean Air Act (CAA), the Commonwealth of Pennsylvania (the Commonwealth or Pennsylvania) is required to establish and implement RACT for all major volatile organic compounds (VOC) and NOX sources. The major source size is determined by its location, the classification of that area and whether it is located in the ozone transport region (OTR). Under section 184 of the CAA, RACT as specified in sections 182(b)(2) and 182(f) applies throughout the OTR. The entire Commonwealth is located within the OTR. Therefore, RACT is applicable statewide in Pennsylvania.

State implementation plan revisions imposing reasonably available control technology (RACT) for three classes of VOC sources are required under section 182(b)(2). The categories are: (1) All sources covered by a Control Technique Guideline (CTG) document issued between November 15, 1990 and the date of attainment; (2) All sources covered by a CTG issued prior to November 15, 1990; (3) All other major non-CTG rules were due by November 15, 1992. The Pennsylvania SIP has approved RACT regulations and requirements for all sources and source categories covered by the CTG's.

On February 4, 1994, the Pennsylvania Department of Environmental Protection (PADEP) submitted a revision to its SIP to require major sources of NOX and additional major sources of VOC emissions (not covered by a CTG) to implement RACT. The February 4, 1994 submittal was amended on May 3, 1994 to correct and clarify certain presumptive NOX RACT requirements. In the Pittsburgh area, a major source of VOC is defined as one having the potential to emit 50 tons per year (tpy) or more, and a major source of NOX is defined as one having the potential to emit 100 tpy or more. Pennsylvania's RACT regulations require sources, in the Pittsburgh area, that have the potential to emit 50 tpy or more of VOC and sources which have the potential to emit 100 tpy or more of NOX comply with RACT by May 31, 1995. The regulations contain technology-based or operational “presumptive RACT emission limitations” for certain major NOX sources. For other major NOX sources, and all major non-CTG VOC sources (not otherwise already subject to RACT under the Pennsylvania SIP), the regulations contain a “generic” RACT provision. A generic RACT regulation is one that does not, itself, specifically define RACT for a source or source categories but instead allows for case-by-case RACT determinations. The generic provisions of Pennsylvania's regulations allow for PADEP to make case-by case RACT determinations that are then to be submitted to EPA as revisions to the Pennsylvania SIP.

On March 23, 1998 EPA granted conditional limited approval to the Commonwealth's generic VOC and NOX RACT regulations (63 FR 13789). In that action, EPA stated that the conditions of its approval would be satisfied once the Commonwealth either (1) certifies that it has submitted case-by-case RACT proposals for all sources subject to the RACT requirements currently known to PADEP; or (2) demonstrates that the emissions from any remaining subject sources represent a de minimis level of emissions as defined in the March 23, 1998 rulemaking. On April 22, 1999, PADEP made the required submittal to EPA certifying that it had met the terms and conditions imposed by EPA in its March 23, 1998 conditional limited approval of its VOC and NOX RACT regulations by submitting 485 case-by-case VOC/NOX RACT determinations as SIP revisions and making the demonstration described as condition 2, above. EPA determined that Pennsylvania's April 22, 1999 submittal satisfied the conditions imposed in its conditional limited approval published on March 23, 1998. On May 3, 2001 (66 FR 22123), EPA published a rulemaking action removing the conditional status of its approval of the Commonwealth's generic VOC and NOX RACT regulations on a statewide basis. The regulation currently retains its limited approval status. Once EPA has approved the case-by-case RACT determinations submitted by PADEP to satisfy the conditional approval for subject sources located in Allegheny, Armstrong, Beaver, Butler, Fayette, Washington, and Westmoreland Counties; the limited approval of Pennsylvania's generic VOC and NOX RACT regulations shall convert to a full approval for the Pittsburgh area.

On March 21, 1996, PADEP submitted revisions to the Pennsylvania SIP which establish and impose case-by-case RACT for several sources of VOC and/or NOX. This rulemaking pertains to the Commonwealth's submittal of operating permit (OP) 65-000-016 which imposes NOX RACT requirements for the Latrobe Steel Company (LSC), a major source of NOX located in the Pittsburgh area. The RACT determinations submitted on March 21, 1996 for other sources are or have been the subject of separate rulemakings.

II. Summary of the SIP Revision

The Latrobe Steel Company (Latrobe) is a producer of high-performing alloy and specialty steels located in the Borough of Latrobe, Westmoreland County, Pennsylvania. The Latrobe facility consists of eighty-eight individual unit/processes with potential NOX and VOC emissions of 493.4 tons per year and 15 tons per year, respectively facility-wide. As the facility's potential VOC emissions are less than 50 tons per year, the facility is not a major source of VOC. The facility is a major source of NOX and is subject to RACT. The PADEP established NOX RACT requirements for the facility in OP 65-000-016 for the eighty-eight individual units or processes subject to Pennsylvania's RACT regulation.

A. Description of the NOX Emitting Units/Processes at Latrobe Steel

(1) Electric Arc Furnaces (EAFs) A and B at the Melt Shop—Both EAFs are used at the plant to melt and refine the charge of metallic scrap, fluxes, and various alloying elements. The sufficient resistive heating is generated inside the refractory-lined furnace vessel by electrical current flowing between the three graphite electrodes and through the metallic charge. In spite of very high temperatures which arise inside the furnace during the melting phase, only modest NOX formation occurs. This is due to the fact that in the EAF process the generation of NOX is largely transferred from a steelmaking facility to an electric generating unit at a utility plant where those emissions are controlled.

(2) Heating/Reheating/Annealing Furnaces—Heating/reheating furnaces are used for heat-treating of steel and bringing it to a uniform temperature suitable for hot working. Annealing furnaces are used to refine the steel grain structure, to relief stresses induced by hot or cold working, and to alter the mechanical properties of steel in order to improve its machinability. Heat treatment of the alloy steels is conducted at a slow rate and relatively low temperatures to minimize thermal stresses and to avoid distortion and cracking.

B. Description of the RACT Determinations

Of the eighty-eight NOX emitting units/processes, seventy-nine are various heating/reheating/annealing natural gas-fired furnaces with a rated gross heat input of less than 20 MMBTU/hr each. Pennsylvania has determined that these sources are subject to SIP-approved presumptive RACT requirements set forth in 25 Pa. Code Section 129.93(c)(1) which require that the installation, maintenance, and operation of the source be done in accordance with manufacturer's specifications. One of the other nine remaining sources is a natural gas-fired combustion unit (boiler) with a rated gross heat input between 20 MMBTU/hr and 50 MMBTU/hr. Pennsylvania has determined that this source is a subject to SIP-approved presumptive RACT requirements set forth in 25 Pa. Code Section 129.93(b)(2) which require that an annual adjustment or tune-up of the combustion process be performed.

The remaining eight sources are comprised of two EAFs, four Carbottom natural gas-fired heating furnaces with a rated gross heat input of less than 50 MMBTU/hr each, and two natural gas-fired reheating furnaces (Selas Barrel and Salem Walking Beam furnaces) with a rated gross heat input of less than 100 MMBTU/hr each. The following NOX control options were evaluated in a case-by-case RACT analysis: Selective Non-Catalytic Reduction (SNCR), Selective Catalytic Reduction (SCR), Waste Gas Wet Scrubber, Exhaust Gas Recirculation (EGR), Staged Combustion Burners, Low NOX Burners, and Optimized Combustion Systems Operations/Maintenance Procedures. Pennsylvania's determinations of NOX RACT requirements for these eight furnaces were based upon case-by-case analyses of whether or not the evaluated control technologies were technically and economically feasible options in each particular application. A summary of Pennsylvania's NOX RACT determinations for these furnaces is provided below.

(1) EAFs and B at the Melt Shop—The PADEP concluded that there are no feasible control technologies for reducing NOX emissions from the existing EAFs. The equipment and technology currently in place are constitute RACT for the source. In OP 65-000-016, PADEP limits NOX emissions from EAFs A and B to 0.52 lbs per ton each and to 14.5 tpy and 21.7 tpy, respectively.

(2) Carbottom furnaces (No. 1 and No. 2 at the Melt Shop; No. 7 and No. 50 at the Mesta Press—Furnaces Nos. 1, 2, and 7 are identical in design and rated capacity and consist of 16 natural gas-fired burners each with a total gross heat input of 29.6 MMBTU/hr per furnace. Furnace No. 50 consists of 15 natural gas-fired burners with a total gross heat input of 20.6 MMBTU/hr. Based upon a case-by-case NOX RACT analysis, Pennsylvania has concluded that implementation of combustion operating/maintenance procedures constitutes RACT for these sources. This control option is consistent with the SIP-approved presumptive RACT requirements for combustion units with a rated gross heat input between 20 MMBTU/hr and 50 MMBTU/hr set forth in 25 Pa. Code Section 129.93.(b)(2). Pennsylvania also limits NOX emissions from each of Carbottom furnaces Nos. 1, 2 and 7 to 0.12 lbs/MMBTU and to 15.6 tpy. The NOX emissions from Carbottom furnace No. 50 are limited to 0.12 lbs/MMBTU and 13.7 tpy.

(3) Selas Barrel furnace No. 1 at the Continuous Rolling Mill—The furnace consists of 88 natural gas-fired burners with a total gross heat input of 80.8 MMBTU/hr. Based upon a case-by-case NOX RACT analysis, Pennsylvania has concluded that implementation of combustion operating/maintenance procedures constitutes RACT for the source. Pennsylvania also limits NOX emissions from Selas Barrel furnace No. 1 to 0.12 lbs/MMBTU and to 35.7 tpy.

(4) Salem Walking Beam furnace at the Continuous Rolling Mill—The furnace consists of 13 natural gas-fired burners with a total gross heat input of 88 MMBTU/hr. Pennsylvania limits the hours of operations to no more than 6,000 hours in any calendar year and requires implementation of specified combustion operating/maintenance procedures. In addition to restricting the furnace's operating hours, Pennsylvania also limits the NOX emissions from the Salem Walking Beam furnace to 0.12 lbs/MMBTU and to 46.3 tpy.

III. EPA's Evaluation of Pennsylvania's SIP Revision

EPA is approving Pennsylvania's RACT SIP submittal of OP 65-000-016 which establishes and imposes RACT requirements on Latrobe Steel in accordance with the criteria set forth in its SIP-approved RACT regulations and which also imposes record-keeping, monitoring, and testing requirements sufficient to determine compliance with the applicable RACT determinations.

IV. Final Action

EPA is approving Latrobe Steel's OP 65-000-016 as a revision to the Pennsylvania SIP. It was submitted by PADEP to establish and impose NOX RACT for Latrobe Steel, a major source located in the Pittsburgh area. EPA is publishing this rule without prior proposal because the Agency views this as a noncontroversial amendment and anticipates no adverse comment. However, in the “Proposed Rules” section of today's Federal Register, EPA is publishing a separate document that will serve as the proposal to approve the SIP revision if adverse comments are filed. This rule will be effective on September 24, 2001 without further notice unless EPA receives adverse comment by September 10, 2001. If EPA receives adverse comment, EPA will publish a timely withdrawal in the Federal Register informing the public that the rule will not take effect. EPA will address all public comments in a subsequent final rule based on the proposed rule. EPA will not institute a second comment period on this action. Any parties interested in commenting must do so at this time.

V. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use.” See 66 FR 28355, May 22, 2001. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for one named source.

C. Petitions for Judicial Review

Under section 307(b)(1) of the Clean Air Act, petitions for judicial review of this action must be filed in the United States Court of Appeals for the appropriate circuit by October 9, 2001. Filing a petition for reconsideration by the Administrator of this final rule does not affect the finality of this rule for the purposes of judicial review nor does it extend the time within which a petition for judicial review may be filed, and shall not postpone the effectiveness of such rule or action. This action approving the Commonwealth's source-specific RACT requirements to control NOX from Latrobe Steel may not be challenged later in proceedings to enforce its requirements. (See section 307(b)(2).)

List of Subjects in 40 CFR Part 52

Environmental protection, Air pollution control, Hydrocarbons, Incorporation by reference, Nitrogen Oxides, Ozone, Reporting and record-keeping requirements.

Dated: August 1, 2001.
Thomas C. Voltaggio,
Deputy Regional Administrator, Region III.

40 CFR part 52 is amended as follows:

PART 52—[AMENDED]

1. The authority citation for part 52 continues to read as follows:

Authority: 42 U.S.C. 7401 et seq.

Subpart NN—Pennsylvania

2. Section 52.2020 is amended by adding paragraph (c)(158) to read as follows:

§ 52.2020 Identification of plan.

* * * * *

(c) * * *

(158) Revision pertaining to NOX RACT for the Latrobe Steel Company located in Latrobe Borough, Westmoreland County, submitted by the Pennsylvania Department of Environmental Protection on March 21, 1996.

(i) Incorporation by reference.

(A) Letter submitted on March 21, 1996 by the Pennsylvania Department of Environmental Protection transmitting source-specific VOC and/or NOX RACT determinations.

(B) Operating Permit 65-000-016, effective December 22, 1995, for the Latrobe Steel Company in Latrobe Borough, Westmoreland County, except for the specified Permit Term: 12/22/95-12/22/00.

(ii) Additional Materials—Other materials submitted by the Commonwealth of Pennsylvania in support of and pertaining to the RACT determination for the source listed in (i)(B), above.

[FR Doc. 01-20140 Filed 8-9-01; 8:45 am]

BILLING CODE 6560-50-P